NUCLEAR REGULATORY COMMISSION

[Docket No.: 70-3103]

Notice of Availability of Environmental Impact Statement for the Proposed National Enrichment Facility in Lea County, NM, NUREG-1790, Draft Report, and Notice of Public Meeting

AGENCY: Nuclear Regulatory Commission.

ACTION: Notice of availability of draft environmental impact statement and notice of public meeting.

SUMMARY: Notice is hereby given that the U.S. Nuclear Regulatory Commission (NRC) is issuing a Draft Environmental Impact Statement (DEIS) for the Louisiana Energy Services (LES) license application, dated December 12, 2003, as revised by letters dated February 27, 2004, and July 30, 2004, and docketed on January 30, 2004, for the possession and use of source, byproduct and special nuclear materials at its proposed National Enrichment Facility (NEF) in Lea County, New Mexico.

The DEIS discusses the purpose and need for the proposed LES facility and reasonable alternatives to the proposed action, including the no-action alternative. The DEIS also discusses the environment potentially affected by the LES proposal, presents and compares the potential environmental impacts resulting from the proposed action and its alternatives, and identifies mitigation measures that could eliminate or lessen the potential environmental impacts.

The DEIS is being issued as part of the NRC's decision-making process on whether to issue a license to LES. Based on the preliminary evaluation in the DEIS, the NRC environmental review staff has concluded that the proposed action would have small effects on the physical environment and human communities with the exception of: (1) short-term impacts associated with construction traffic, accidents, and waste management, which would be small to moderate, and (2) beneficial economic impacts of the proposed NEF on the local communities which have been determined to be moderate. The DEIS is a preliminary analysis of the environmental impacts of the proposed action and its alternatives. The Final EIS and any decision documentation regarding the proposed action will not be issued until public comments on the DEIS have been received and evaluated. Notice of the availability of the Final EIS will be published in the Federal Register.

DATES: The NRC is offering an opportunity for public review and comment on the DEIS in accordance with applicable regulations, including NRC requirements in 10 CFR 51.73, 51.74 and 51.117. The comment period on this DEIS will be 45 days from the date the U.S. Environmental Protection Agency publishes the notice of availability in the Federal Register. Written comments submitted by mail should be postmarked by that date to ensure consideration. Comments mailed after that date will be considered to the extent practical. Comments will also be accepted by electronic or facsimile submission.

ADDRESSES: Members of the public are invited and encouraged to submit comments to the Chief, Rules Review and Directives Branch, Mail Stop T6-D59, U.S. Nuclear Regulatory Commission, Washington, DC 20555-0001. Please note Docket No. 70-3103 when submitting comments. Comments will also be accepted by e-mail at nrcrep@nrc.gov or by facsimile to (301) 415-5397, Attention: Anna Bradford.

Public Meetings: The NRC staff will hold a public meeting to present an overview of the DEIS and to accept oral and written public comments. Prior to the public meeting, the NRC staff will be available to informally discuss the proposed LES project and answer questions in an “open house” format. This “open house” format provides for one-on-one discussions with the NRC staff involved with the preparation of the LES Draft EIS. The meeting date, time and location are listed below:

Thursday, October 14, 2004. Eunice Community Center, 1115 Avenue I, Eunice, New Mexico.

Open House: 6 p.m. to 7 p.m.,

Public Meeting: 7 p.m. to 10 p.m.

The meeting will be transcribed and will include: (1) A presentation summarizing the contents of the DEIS and (2) an opportunity for interested government agencies, organizations, and individuals to provide comments on the DEIS. Persons wishing to provide oral comments can register in advance by contacting Ms. Anna Bradford at (301) 415-5228 by October 8, 2004, or at the public meeting. Individual oral comments may have to be limited by the time available, depending upon the number of persons who register.

If special equipment or accommodations are needed to attend or present information at the public meeting, the need should be brought to Ms. Bradford's attention no later than October 1, 2004, to provide NRC staff with adequate notice to determine whether the request can be accommodated.

FOR FURTHER INFORMATION CONTACT: For environmental review questions, please contact Anna Bradford at (301) 415-5228. For questions related to the safety review or overall licensing of the proposed NEF, please contact Timothy Johnson at (301) 415-7299.

Information and documents associated with the proposed NEF project, including the Environmental Report and the License Application, may be obtained from the Internet on NRC's LES Web page: http://www.nrc.gov/materials/fuel-cycle-fac/lesfacility.html. In addition, all documents, including the DEIS (ADAMS Accession Number: ML042510184), are available for public review through the NRC electronic reading room: http://www.nrc.gov/reading-rm.html. Any comments of Federal, State and local agencies, Indian tribes or other interested persons will be made available for public inspection when received. Documents may also be obtained from NRC's Public Document Room located at U.S. Nuclear Regulatory Commission Headquarters, 11555 Rockville Pike (first floor), Rockville, Maryland. For those without access to the Internet, paper copies of any electronic documents may be obtained for a fee by contacting the NRC's Public Document Room at 1-800-397-4209.

SUPPLEMENTARY INFORMATION: The NRC staff has prepared a DEIS in response to an application submitted by LES for a license to construct, operate and decommission a gas centrifuge uranium enrichment facility in Lea County, New Mexico. The DEIS for the proposed NEF was prepared by the staff of the NRC and its contractor, Advanced Technologies and Laboratories, International, Inc. and Pacific Northwest National Laboratory, in compliance with the National Environmental Policy Act (NEPA) and the NRC's regulations for implementing NEPA (10 CFR part 51). The proposed action involves a decision by NRC of whether to issue a license to LES to construct, operate and decommission the proposed NEF.

The NRC staff published a Notice of Intent to prepare an EIS for the proposed NEF and to conduct a scoping process, in the Federal Register on February 4, 2004 (69 FR 5374). The NRC staff accepted comments through March 18, 2004, and subsequently issued a Scoping Summary Report in April 2004 (ADAMS Accession Number: ML041050128).

The DEIS describes the proposed action and alternatives to the proposed action, including the no-action alternative. The NRC staff assesses the impacts of the proposed action and its alternatives on public and occupational health, air quality, water resources, waste management, geology and soils, noise, ecology resources, land use, transportation, historical and cultural resources, visual and scenic resources, socioeconomics, accidents and environmental justice. Additionally, the DEIS analyzes and compares the costs and benefits of the proposed action.

Based on the preliminary evaluation in the DEIS, the NRC environmental review staff has concluded that the proposed action should be approved, unless safety issues mandate otherwise, with implementation of the proposed mitigation measures that could eliminate or lessen the potential environmental impacts. The DEIS is a preliminary analysis of the environmental impacts of the proposed action and its alternatives. The Final EIS and any decision documentation regarding the proposed action will not be issued until public comments on the DEIS have been received and evaluated. Notice of the availability of the Final EIS will be published in the Federal Register.

Dated in Rockville, Maryland, this 2nd day of September, 2004.
For the Nuclear Regulatory Commission.
Scott C. Flanders,
Deputy Director, Environmental and Performance Assessment Directorate, Division of Waste Management and Environmental Protection, Office of Nuclear Material Safety and Safeguards.

[FR Doc. 04-20852 Filed 9-16-04; 8:45 am]

BILLING CODE 7590-01-P